DEPARTMENT OF DEFENSE

Office of the Secretary

[Docket ID: DOD-2025-OS-0805]

Submission for OMB Review; Comment Request

AGENCY: Office of the Under Secretary of Defense for Acquisition and Sustainment (USD(A&S)), Department of Defense (DoD).

ACTION: 30-Day information collection notice.

SUMMARY: The Department of War has submitted to the Office of Management and Budget (OMB) for clearance the following proposal for collection of information under the provisions of the Paperwork Reduction Act.

DATES: Consideration will be given to all comments received by March 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Qualified Facility List Application Form; DLA Form 2507; OMB Control Number 0704-0650.

Type of Request: Revision.

Number of Respondents: 250.

Responses per Respondent: 1.

Annual Responses: 250.

Average Burden per Response: 1 hour.

Annual Burden Hours: 250.

Needs and Uses: The information collected via the DLA Form 2507, “Application for Qualified Facility List (QFL),” is used to validate hazardous waste disposal facilities around the world. Prior to the United States (U.S.) Government sending hazardous waste to a disposal facility, the facility must undergo a vetting process to ensure they are properly permitted, insured, and operating within local, state, and/or national regulations. Respondents are companies that have entered into a contract with the U.S. Government to dispose of hazardous waste and hazardous material on behalf of the U.S. Government. The result of the review process is the disposal facility's addition to the QFL and authorized use by the disposal contractor. If the facility fails to meet the minimum standards established by DLA Disposition Services, the facility is rejected/disapproved and will not be added to the QFL.

Affected Public: Business or other for-profit.

Frequency: On occasion.

Respondent's Obligation: Voluntary.

DoD Clearance Officer: Mr. Reginald Lucas.

Dated: February 23, 2026.
Stephanie J. Bost,
Alternate OSD Federal Register Liaison Officer, Department of Defense.

[FR Doc. 2026-03729 Filed 2-24-26; 8:45 am]

BILLING CODE 6001-FR-P